DEPARTMENT OF JUSTICE

Antitrust Division

Notice Pursuant to the National Cooperative Research and Production Act of 1993—InterNational Electrical Testing Association

Notice is hereby given that, on September 17, 2004, pursuant to section 6(a) of the National Cooperative Research and Production Act of 1993, 15 U.S.C. 4301 et seq. (“the Act”), InterNational Electrical Testing Association (“NETA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: InterNational Electrical Testing Association, Morrison, CO. The nature and scope of NETA's standards development activities are: To provide electrical acceptance testing standards and specifications which provide requirements for the testing of newly installed electrical equipment and systems, and to provide electrical maintenance testing standards and specifications which provide requirements for the testing of existing electrical facilities.

Dorothy B. Fountain,
Deputy Director of Operations, Antitrust Division.

[FR Doc. 04-24562 Filed 11-2-04; 8:45 am]

BILLING CODE 4410-11-M